ENVIRONMENTAL PROTECTION AGENCY

40 CFR Part 52

[CA 309-0474; FRL-7872-4]

Revisions to the California State Implementation Plan, Great Basin Unified Air Pollution Control District and Ventura County Air Pollution Control District

AGENCY: Environmental Protection Agency (EPA).

ACTION: Final rule.

SUMMARY: EPA is finalizing approval of revisions to the Great Basin Unified Air Pollution Control District (GBUAPCD) and Ventura County Air Pollution Control District (VCAPCD) portions of the California State Implementation Plan (SIP). These revisions were proposed in the Federal Register on June 7, 2004 and concern the emission of particulate matter (PM-10) from open burning and incinerator burning. We are approving local rules that regulate these emission sources under the Clean Air Act as amended in 1990 (CAA or the Act).

DATES: Effective Date: This rule is effective on March 24, 2005.

ADDRESSES: You can inspect copies of the submitted rule revisions and EPA's technical support documents (TSDs) at our Region IX office during normal business hours. You may also see copies of the submitted rule revisions and TSDs at the following locations:

Environmental Protection Agency, Air Docket (6102), Ariel Rios Building, 1200 Pennsylvania Avenue, NW., Washington DC 20460.

California Air Resources Board, Stationary Source Division, Rule Evaluation Section, 1001 “I” Street, Sacramento, CA 95814.

Great Basin Unified Air Pollution Control District, 157 Short Street, Suite 6, Bishop, CA 93514.

Ventura County Air Pollution Control District, 669 Country Square Drive, Ventura, CA 93003.

A copy of the rule may also be available via the Internet at http://www.arb.ca.gov/drdb/drdbltxt.htm. Please be advised that this is not an EPA website and may not contain the same version of the rule that was submitted to EPA.

FOR FURTHER INFORMATION CONTACT: Al Petersen, Rulemaking Office (AIR-4), U.S. Environmental Protection Agency, Region IX, (415) 947-4118, petersen.alfred@epa.gov.

SUPPLEMENTARY INFORMATION: Throughout this document, “we,” “us” and “our” refer to EPA.

I. Proposed Action

On June 7, 2004 (69 FR 31782), EPA proposed to approve the following rules into the California SIP.

Table 1.—Submitted Rules
Local agency | Rule # | Rule Title | Revised or amended | Submitted
GBUAPCD | 406 | Open Outdoor Fires | 09/24/03, Revised | 11/04/03
GBUAPCD | 407 | Incinerator and Burn Barrel-Burning | 09/24/03, Revised | 11/04/03
VCAPCD | 56 | Open Burning | 011/11/03, Amended | 01/15/04

We proposed to approve these rules because we determined that they complied with the relevant CAA requirements. Our proposed action contains more information on the rules and our evaluation.

II. Public Comments and EPA Responses

EPA's proposed action provided a 30-day public comment period. During this period, we received a comment from the following party.

• Randy Gullickson, Camarillo, California, e-mail dated June 7, 2004 and received June 7, 2004.

As a result of this comment, we published a withdrawal of the direct final approval of these rules that was published on July 15, 2004 (69 FR 42340). The comment and our response is summarized below.

Comment: Mr. Gullickson, a resident and homeowner in Ventura County, is concerned about the proposed exemption “to limit the burning of household waste at single-or two-family dwellings to only dry non-glossy paper and cardboard and dry natural vegetation.” His concern relates to the costs and problems, such as damage to local farms and fields, that are associated with implementation of this limited exemption. He urges EPA to reconsider the approval after a thorough study of these issues.

Response: The cited limited exemption is contained in GBUAPCD Rule 407, Incinerator and Burn Barrel Burning, pursuant to California Code of Regulations, title 17, section 93113(e). The exemption is restricted to areas with population density of less or equal to 3.0 persons per square mile. The District may request that the exemption also apply to areas with greater than 3.0 but less or equal to 10.0 persons per square mile for a renewable 10-year period. The low population density assures that very little burning would occur and then only materials that burn relatively clean would be burned. Further restrictions are that burning must occur only on Burn Days as determined by the California Air Resources Board and that a valid burn permit be obtained from the GBUAPCD. We believe that incinerator burning under the cited requirements significantly limits any incinerator burning and that negligible contamination from PM-10 emissions will occur in the remote, low-population density areas where the exemption is allowed.

VCAPCD Rule 56, Open Burning, which regulates open burning in Ventura County, does not include this limited exemption and does not allow burning of any household waste at single-or two-family dwellings. Thus, the potential environmental problems and environmental costs associated with this limited exemption would not occur in Ventura County.

III. EPA Action

No comments were submitted that change our assessment that the submitted rules comply with the relevant CAA requirements. Therefore, as authorized in section 110(k)(3) of the Act, EPA is fully approving these rules into the California SIP.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by State law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 25, 2005. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Particulate matter, Reporting and recordkeeping requirements.

Dated: January 12, 2005.
Laura Yoshii,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(321)(i)(C)(2) and (3) and (328)(i)(A)(2) to read as follows:

§ 52.220 Identification of plan.

* * * * *

(c) * * *

(321) * * *

(i) * * *

(C) * * *

(2) Rule 406, adopted on January 21, 1976 and revised on September 24, 2003.

(3) Rule 407, adopted on September 5, 1974 and revised on September 24, 2003.

* * * * *

(328) * * *

(i) * * *

(A) * * *

(2) Rule 56, adopted on October 22, 1968 and amended on November 11, 2003.

* * * * *

[FR Doc. 05-3183 Filed 2-18-05; 8:45 am]

BILLING CODE 6560-50-P